DEPARTMENT OF AGRICULTURE

Forest Service

Shasta-Trinity National Forest; California; Gemmill Thin Project

AGENCY: Forest Service, USDA.

ACTION: Notice of intent to prepare an environmental impact statement.

SUMMARY: This notice for the Gemmill Thin project revises the first notice for the project which was published in the Federal Register on December 12, 2005 (page 73430). Comments received during the first comment period (December 12, 2006 to January 13, 2007) as well comments received during the comment period for this notice will be considered by the Responsible Official in the development of the draft environmental impact statement.

The Shasta-Trinity National Forest proposes to improve, maintain and protect wildlife habitat for late-successional and old-growth associated species in the Chanchelulla Late-Successional Reserve on the South Fork Management Unit. The proposal includes thinning trees in overcrowded natural stands, thinning plantations and reducing the amount of existing fuels on a total of approximately 1,610 acres of National Forest System land. The project area is located on South Fork Management Unit in T.29 and 30 N., R.10 and 11 W., Mt. Diablo Meridian, northeast of the community of Wildwood, California and south of Chanchelulla Wilderness. Wildwood has bee listed as a Wildland Urban Interface (WUI), identifying it as a community at risk from the threat of wildfire and giving it higher priority for fuels reduction treatments. The Forest Land and Resource Management Plan allocates this area to Late-Successional Reserve, Riparian Reserve (wetlands and areas adjacent to streams), and Matrix (commercial timber harvest emphasis). The project area is within designated critical habitat for the Northern spotted owl (CA-36).

DATES: Comments concerning the scope of the analysis must be received no later than 30 days after the publication of this notice in the Federal Register. The draft environmental impact statement is expected in July 2007 and the final environmental impact statement is expected in October 2007.

ADDRESSES: Send written comments to Gemmill Thin Comments, South Fork Management Unit, P.O. Box 159, Hayfork, CA 96041. Electronic comments can be sent via e-mail to: comments-pacificsouthwest-shasta-trinity-yollabolla-hayfork@fs.fed.us.

FOR FURTHER INFORMATION CONTACT:

Jeff Paulo, Gemmill Thin IDT Lead, South Fork Management Unit, 2555 State Highway 36, Platina, CA 96076, Phone (530) 352-4211 or via E-mail at jpaulo@fs.fed.us, or visit the Shast-Trinity National Forest Web site at www.fs.fed.us/r5/shastatrinity/projects.

SUPPLEMENTARY INFORMATION:

Purpose and Need for Action

Over the past 100 years the practice of excluding fire and the lack of thinning treatments in the Chancuelulla Late-Successional Reserve (LSR) have resulted in a forest ecosytem that is densely stocked and slow-growing. Overcrowded conditions in mature stands (80 to 100 years old) are causing a delay in the establishment of healthy functioning old-growth habitat. Overcrowded conditions in old-growth stands (100 to 150 years old) do not promote long-term health and maintenance because the largest and oldest treesand their replacements are at risk of mortality due to the proximity and number of competing trees. In both cases, tree vigor is reduced because smaller trees are competing with larger trees for limited amounts of water, nutrients and sunlight. This leaves the ecosystem more prone to disease and less resilient to fire. Without treatment, overstocked stands are not likely to remain healthy or meet the need for more old-growth habitat in the LSR. Most of the existing plantations scattered throughout the LSR have never been thinned so they are also overcrowded and hindered in their development of future old-growth habitat characteristics.

There is a need to thin overstocked mature stands that are 80-100 years old. Fewer and healthier trees per acre would serve two purposes: (1) Increase the rate of development of old-growth habitat characteristics and (2) reduce the loss of existing and developing old-growth habitat in the event of wildfire and outbreaks of disease. There is a need to thin below in old-growth stands over 100 years old. A thinning that leaves the oldest and largest trees would serve two purposes: (1) Decrease the risk of losing existing old-growth trees and (2) decrease the risk of losing future replacement old-growth trees.

There is a need to thin plantations to increase their growing space and reduce density to levels where flames are not likely to reach the canopy of the adjacent overstory trees during a wildfire.

There is also a need to spatially protect late-successional and old-growth habitat from the threat of fire that could start inside or outside the perimeter of the LSR. Current threats of fire include tree mortality from insect and disease in overcrowded stands, and natural or human-caused wildfire. The majority of private land closest to the Gemmill Thin project was harvested in the late 1960s to 1970s and more private harvesting is planned. Two public roads and a transmission line are within or directly adjacent to the project area. These linear features and past harvesting on private lands are associated with higher risk for fire starts that could affect the project area.

Proposed Action

The proposed action would include the following treatments:

1. Thinning treatments on approximately 750 acres of stands 80 to 100 year old. Implement a thinning from below in 14 stands of mature mixed conifer and hardwood forest. These are stands that do not yet exhibit old-growth characteristics, but have the potential to attain them. In these treatment units, the largest and healthiest trees would be retained. A sufficient number of trees would be removed to a level that maintains or increases growth rates of mature trees and removes fuel ladders. The post treatment stand would average 50% to 60% tree canopy cover.

2. Thinning treatments on approximately 530 acres of stands 100-150 years old. Implement a thinning from below in 10 stands of old-growth mixed conifer and hardwood forest over 100 years old. The largest and oldest trees within each stand would be retained. A sufficient number of smaller trees would be removed to reduce the number of trees per acre to a level that provides an improved competitive advantage for the larger, older trees and removes fuel ladders that may threaten the remaining trees. The post treatment stands would average 60% or more tree canopy cover.

3. Thinning treatments in approximately 45 acres of 20 year old plantations. Thinning and release treatments would be accomplished through mastication (grinding up excess trees) in three plantations. Sufficient numbers of trees would be removed to maintain an average of 150 trees per acre, a level that maintains stand growth rate and reduces the amount ladder fuels.

4. Thinning from below to reconstruct fuelbreaks implemented 20 years ago on approximately 260 acres of stands aged 80 to 150 years old. Implement a thinning from below to retain approximately 40% canopy closure, and remove most understory vegetation. Shaded fuelbreaks are approximately 150 to 300 foot-wide strips on which vegetation has been modified so that fires burning into them can be more readily controlled. The residual canopy closure provides sufficient shade to reduce the growth of brush species in the understory.

5. Reduce hazardous fuels on approximately 25 acres of existing fuels buffers. All live trees would be retained. Dead trees under 10 inches in diameter would be removed. These small dead trees and ground fuels would be concentrated for burning by hand-treatment methods.

All proposed treatments would remove excess trees as commercial wood products wherever possible. No trees over 150 years old would be harvested. On approximately 1,460 acres small trees (5 to 10 inches in diameter) would be removed and most trees less than 5 inches in diameter would be removed as activity-generated fuels. The harvest systems used in the proposed action would include mechanized equipment, cable systems, and helicopter. There would be no road construction of new system roads. The project may include reconstruction of road segments, construction of short lengths of temporary roads and decommissioning of other roads. Based on public comment another alternative may be developed that places a diameter limit on all thinning.

Responsible Official

J. Sharon Heywood, Forest Supervisor, Shasta-Trinity National Forest, 3644 Avtech Parkway, Redding, CA 96002. (530) 226-2500.

Nature of Decision To Be Made

The Forest Supervisor will decide whether to implement the proposed action, implement an alternative action that meets the purpose and need or take no action. The decision may include a non-significant forest plan amendment that permits treatment of stands older than 80 years within Late-Successional Reserves.

Scoping Process

Notice of the proposed action will be published in the newspaper of record, the Redding Record Searchlight. It will also be published in the Trinity Journal. Scoping letters will be mailed to interested and affected public coincident with publication of this notice of intent in the Federal Register and information on the proposed action will be posted on the Forest Web site at http://www.fs.fed.us/r5/shastatrinity/projects. The Trinity County Firesafe Council has reviewed this proposal and a public meeting was held at the Harrison Gulch Ranger Station on Wednesday, September 28, 2005. This notice of intent initiates the current scoping process, which guides the development of the environmental impact statement. Comments submitted during this scoping process should be in writing and should be specific to the proposed action. The comments should describe as clearly and completely as possible any issues the commenter has with the proposal. The results of scoping include: (a) Identifying potential issues, (b) identifying issues to be analyzed in depth, (c) eliminating non-significant issues or those previously covered by another environmental analysis, (d) exploring additional alternatives, and (e) identifying potential environmental effects of the proposed action and alternatives.

Preliminary Issues

Potential issues identified during the first public comment period include:

• Development of an alternative with a diameter limit for harvesting

• The potential for increased vehicle use as a result of proposed road activities

• Decommissioning roads that provide access for public use and fire fighting

Early Notice of Public Participation in Subsequent Environmental Review

The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: May 25, 2007.
Scott G. Armentrout,
Deputy Forest Supervisor, Shasta-Trinity National Forest.

[FR Doc. 07-2718 Filed 5-31-07; 8:45 am]

BILLING CODE 3410-11-M